DEPARTMENT OF COMMERCE

National Institute of Standards and Technology

NIST Smart Grid Advisory Committee Meeting

AGENCY: National Institute of Standards and Technology, Department of Commerce.

ACTION: Notice of open meeting.

SUMMARY: The National Institute of Standards and Technology (NIST) Smart Grid Advisory Committee (SGAC or Committee) will hold an open meeting on Tuesday, April 2, 2019 from 11:00 a.m. to 1:00 p.m. Eastern Time via teleconference and/or webinar.

DATES: The SGAC will meet on Tuesday, April 2, 2019 from 11:00 a.m. to 1:00 p.m. Eastern Time via teleconference and/or webinar.

ADDRESSES: The meeting will be held via teleconference and/or webinar. For instructions on how to participate in the meeting via teleconference and/or webinar, please see the SUPPLEMENTARY INFORMATION section of this notice.

FOR FURTHER INFORMATION CONTACT: Cuong Nguyen, Smart Grid and Cyber-Physical Systems Program Office, National Institute of Standards and Technology, 100 Bureau Drive, Mail Stop 8200, Gaithersburg, MD 20899-8200; telephone 301-975-2254, fax 301-948-5668. Mr. Nguyen's email address is cuong.nguyen@nist.gov.

SUPPLEMENTARY INFORMATION: The Committee was established in accordance with the Federal Advisory Committee Act, as amended, 5 U.S.C. App.

Pursuant to the Federal Advisory Committee Act, as amended, 5 U.S.C. App., notice is hereby given that that SGAC will meet via teleconference and/or webinar on Tuesday, April 2, 2019 from 11:00 a.m. to 1:00 p.m. Eastern Time. There will be no central meeting location. The meeting will be open to the public. The public is invited to participate in the meeting by calling in from remote locations. The Committee is composed of nine to fifteen members, appointed by the Director of NIST, who were selected on the basis of established records of distinguished service in their professional community and their knowledge of issues affecting Smart Grid deployment and operations. The Committee advises the Director of NIST in carrying out duties authorized by section 1305 of the Energy Independence and Security Act of 2007 (Pub. L. 110-140). The Committee provides input to NIST on Smart Grid standards, priorities, and gaps, on the overall direction, status, and health of the Smart Grid implementation by the Smart Grid industry, and on the direction of Smart Grid research and standards activities. Background information on the Committee is available at http://www.nist.gov/smartgrid/.

The primary purposes of this meeting are to provide updates on the subcommittees' activities and stakeholder engagement for the NIST Framework and Roadmap for Smart Grid Interoperability Standards, Release 4.0. The agenda may change to accommodate Committee business. The final agenda will be posted on the Smart Grid website at http://www.nist.gov/smartgrid.

Individuals and representatives of organizations who would like to offer comments and suggestions related to the Committee's affairs are invited to request a place on the agenda by submitting their request to Cuong Nguyen at cuong.nguyen@nist.gov or (301) 975-2254 no later than 5:00 p.m. Eastern Time, Tuesday, March 19, 2019. On Tuesday, April 2, 2019, approximately fifteen minutes will be reserved at the end of the meeting for public comments, and speaking times will be assigned on a first-come, first-serve basis. The amount of time per speaker will be determined by the number of requests received but is likely to be about three minutes each. Questions from the public will not be considered during this period. Speakers who wish to expand upon their oral statements, those who had wished to speak but could not be accommodated on the agenda, and those who were unable to attend in person are invited to submit written statements to Mr. Cuong Nguyen, Smart Grid and Cyber-Physical Systems Program Office, National Institute of Standards and Technology, 100 Bureau Drive, Mail Stop 8200, Gaithersburg, MD 20899-8200; telephone 301-975-2254, fax 301-948-5668; or via email at cuong.nguyen@nist.gov, by 5:00 p.m. Eastern Time, Tuesday, March 19, 2019.

All meeting participants are required to pre-register. Anyone wishing to participate must register by 5:00 p.m. ET on Tuesday, March 19, 2019, in order to be included. Please submit your name, email address, and phone number to Cuong Nguyen at cuong.nguyen@nist.gov or (301) 975-2254. After pre-registering, participants will be provided with detailed instructions on how to join the teleconference/webinar from a remote location in order to participate.

Kevin Kimball,
NIST Chief of Staff.

[FR Doc. 2019-03754 Filed 3-1-19; 8:45 am]

BILLING CODE 3510-13-P